DEPARTMENT OF TRANSPORTATION

National Highway Traffic Safety Administration

[Docket No. NHTSA-2023-0067]

Federal Motor Vehicle Safety Standard (FMVSS) No. 213 Test Procedure (TP-213-11)

AGENCY: National Highway Traffic Safety Administration (NHTSA), Department of Transportation (DOT).

ACTION: Request for comments (RFC).

SUMMARY: The National Highway Traffic Safety Administration (NHTSA) seeks public comment on the Office of Vehicle Safety Compliance (OVSC) laboratory test procedure (TP) number TP-213-11, specifically relating to FMVSS No. 213a, Child restraint systems—side impact protection. This TP, prepared for the limited purpose of use by contracted independent laboratories conducting tests for NHTSA, is an agency guidance document intended for use by NHTSA test contractors. TPs are not rules, regulations, or agency interpretations regarding the meaning of a Federal motor vehicle safety standard. The TP serves as a contractual document between NHTSA and its contract test laboratories. The updated OVSC laboratory test procedure, TP-213-11, includes new instructions for how labs should test for compliance with the recently created FMVSS No. 213a, Child restraint systems—side impact protection.

DATES: Comments must be received no later than May 22, 2024.

ADDRESSES:

Documents: The OVSC laboratory test procedure TP-213-11, described in this RFC, is available for viewing in PDF format in the docket identified in the heading of this document.

Comments: You may submit comments to the docket, identified by the docket number identified in the head of this document, by any of the following methods:

• Federal eRulemaking Portal: To submit comments electronically, go to the U.S. Government regulations website at http://www.regulations.gov. Follow the online instructions for submitting comments.

• Fax: Written comments may be faxed to 202-493-2251.

• Mail: Send comments to: Docket Management Facility, U.S. Department of Transportation, 1200 New Jersey Avenue SE, West Building Ground Floor, Room W12-140, Washington, DC 20590-0001.

• Hand Delivery: If you submit written comments by hand or courier, please do so at 1200 New Jersey Avenue SE, West Building Ground Floor, Room W12-140, Washington, DC between 9 a.m. and 5 p.m. Eastern Time, Monday through Friday, except Federal holidays. To be sure someone is there to help you, please call 202-366-9826 before coming.

Instructions: For detailed instructions on submitting comments and additional information, see the Public Participation section of this document, which can be found below. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

If you wish to provide comments containing proprietary or confidential information, please follow the instructions in the section of this notice titled “How do I submit confidential business information?”

FOR FURTHER INFORMATION CONTACT:

For technical issues: Mr. Corey Barlet, Compliance Engineer, Office of Vehicle Safety Compliance, National Highway Traffic Safety Administration, 1200 New Jersey Ave SE, Washington, DC 20590. Telephone: 202-366-1119. Email: corey.barlet@dot.gov.

For legal issues: Mr. Matthew Filpi, Attorney-Advisor, Office of the Chief Counsel, National Highway Traffic Safety Administration, 1200 New Jersey Avenue SE, Washington, DC 20590. Telephone: 202-366-3179. Email: matthew.filpi@dot.gov.

SUPPLEMENTARY INFORMATION: On June 30, 2022, NHTSA published a final rule establishing Federal Motor Vehicle Safety Standard (FMVSS) No. 213a, Child restraint systems—side impact protection (87 FR 39234). This final rule requires child restraint systems (CRS) designed to seat children weighing up to 18.1 kilograms (kg) or in a height range that includes heights up to 1,100 millimeters, to meet certain minimum side impact performance requirements. This RFC is strictly limited to the contents of OVSC laboratory test procedure TP-213-11, including subsequent amendments, if any, resulting from the agency's response to petitions for reconsideration. TP-213-11 is available for viewing in PDF format in the docket identified in the heading of this document.

Introduction

To investigate whether specific vehicles or products comply with the Federal Motor Vehicle Safety Standards (FMVSS), NHTSA's Office of Vehicle Safety Compliance (OVSC) contracts with labs to conduct compliance testing. OVSC laboratory test procedures are prepared for the limited purpose of use by contracted independent laboratories conducting compliance tests for the OVSC.¹ OVSC laboratory test procedures are not rules, regulations, or NHTSA interpretations. OVSC laboratory test procedures are not intended to limit the requirements of the applicable FMVSS. In some cases, the OVSC laboratory test procedure, or the report produced as a result of the work performed by the contracted laboratory, does not include all of the various FMVSS minimum performance requirements.

¹ OVSC laboratory test procedures are distinct from regulatory test procedures that are included as part of most Federal Motor Vehicle Safety Standards. OVSC laboratory test procedures are generally based off of the regulatory test procedures in specific FMVSS, but are prepared by the agency to give contracted labs specific instructions on how to conduct a specific test. The agency publishes the OVSC laboratory test procedures on NHTSA's website for transparency. The OVSC laboratory test procedures are simply agency guidance for contracted labs, and do not constitute official agency action.

Background

Under the National Traffic and Motor Vehicle Safety Act, NHTSA has the statutory authority to issue Federal Motor Vehicle Safety Standards (FMVSS) applicable to new motor vehicles and items of motor vehicle equipment. Child restraint systems fall under NHTSA's regulatory authority because they are considered motor vehicle equipment. The law establishes a self-certification process in which the vehicle and equipment manufacturers themselves certify that all of their products are in compliance with all applicable FMVSS, which establish minimum criteria that the product must meet. It is up to manufacturers to determine what steps are necessary in order to ensure that every product manufactured meets or exceeds the applicable requirements before the products are imported, sold, offered for sale, or introduced into interstate commerce in the United States.

NHTSA enforces its standards, in part, by procuring equipment from the marketplace and testing to the requirements of the applicable standard at independent test labs. Not all available products, applicable requirements, or every claim a manufacturer makes will be tested. Further, NHTSA's testing does not constitute nor confirm a manufacturer's certification of compliance of a product. It is up to manufacturers to certify compliance with the relevant FMVSS for their product, and they may choose to do so however they see fit.

In the spirit of transparency with public and industry, OVSC laboratory test procedures are published on NHTSA's website so interested parties may see how NHTSA is instructing its contracted labs to collect data to help OVSC investigate if products sold in the US comply with certain FMVSS. Because OVSC laboratory test procedures are OVSC's instructions for NHTSA contracted labs and OVSC may not be testing strictly enough to ensure compliance of a vehicle or item of motor vehicle equipment, compliance is not necessarily guaranteed if the manufacturer limits its certification tests to those described in an OVSC laboratory test procedure. A manufacturer should not depend on the test reports produced as a result of OVSC's laboratory testing as the basis for certification that its vehicle or item of motor vehicle equipment complies with all applicable requirements of a FMVSS, as OVSC's laboratory tests evaluate a product's performance under some, but not necessarily all, conditions and procedures described in an FMVSS, and the findings in those reports are the findings of the test laboratory and not necessarily of NHTSA. Under the National Traffic and Motor Vehicle Safety Act, manufacturers are responsible for certifying the compliance of their products with all applicable requirements of the FMVSSs.

OVSC's Current Test Procedure

Over the years, NHTSA has drafted numerous versions of OVSC the laboratory test procedure for FMVSS No. 213 Child Restraint Systems, Child Restraint Systems—Side Impact Protection. Because FMVSS No. 213 was originally written in the late 1970s, the agency updated the test procedure numerous times because of changes in technology, the CRS market, and the standard itself. The previous OVSC laboratory test procedure for FMVSS No. 213, TP-213-10,² was published in February 2014. When the agency published the side impact final rule in June of 2022,³ the agency felt that an update to the OVSC laboratory test procedure for FMVSS No. 213 was necessary. Among other updates to FMVSS No. 213, the side impact final rule created FMVSS No. 213a, which is a new standard requiring CRSs to meet certain minimum side impact performance requirements. Because this is a new standard, NHTSA is seeking feedback from the public on the side impact procedures in the new updated FMVSS No. 213 OVSC laboratory test procedure, TP-213-11. The collected feedback will be reviewed and considered by NHTSA and a future revision of the OVSC test procedure will be published to include potential updates made from the consideration of this solicitation, as well as FMVSS No. 213b updates.

² Docket No. NHTSA-2023-0067.

³ 87 FR 39234.

The Updated OVSC Laboratory Test Procedure Draft and Request for Comment

In the interest of ensuring a robust OVSC laboratory test procedure for a new safety standard, NHTSA invites public comment on TP-213-11 specifically relating to sections of the OVSC laboratory test procedure that include FMVSS No. 213a requirements.

Public Participation

How do I prepare and submit comments?

Your comments must be written and in English. To ensure that your comments are correctly filed in the Docket, please include the docket number indicated in this document in your comments.

Please limit your comments to 15 pages. We established this limit to encourage you to write your primary comments in a concise fashion. However, you may attach necessary additional documents to your comments. There is no limit on the length of the attachments.

If you are submitting comments electronically as a PDF (Adobe) file, NHTSA asks that the documents be submitted using the Optical Character Recognition (OCR) process, thus allowing NHTSA to search and copy certain portions of your submissions.

Please note that pursuant to the Data Quality Act, in order for substantive data to be relied upon and used by the agency, it must meet the information quality standards set forth in the OMB and DOT Data Quality Act guidelines. Accordingly, we encourage you to consult the guidelines in preparing your comments. OMB's guidelines may be accessed at https://www.transportation.gov/regulations/dot-information-dissemination-quality-guidelines.

How can I be sure that my comments were received?

If you submit comments by hard copy and wish Docket Management to notify you upon its receipt of your comments, enclose a self-addressed, stamped postcard in the envelope containing your comments. Upon receiving your comments, Docket Management will return the postcard by mail. If you submit comments electronically, your comments should appear automatically in the Docket identified in the heading of this document on www.regulations.gov. If they do not appear within two weeks of posting, NHTSA suggested that you call the Docket Management Facility at (202) 366-9826.

How do I submit confidential business information?

You should submit a redacted “public version” of your comment (including redacted versions of any additional documents or attachments) to the docket using any of the methods identified under ADDRESSES. This “public version” of your comment should contain only the portions for which no claim of confidential treatment is made and from which those portions for which confidential treatment is claimed has been redacted. See below for further instructions on how to do this.

You also need to submit a request for confidential treatment directly to the Office of the Chief Counsel. Requests for confidential treatment are governed by 49 CFR part 512. Your request must set forth the information specified in part 512. This includes the materials for which confidentiality is being requested (as explained in more detail below); supporting information, pursuant to § 512.8; and a certificate, pursuant to § 512.4(b) and part 512, appendix A.

You are required to submit to the Office of the Chief Counsel one unredacted “confidential version” of the information for which you are seeking confidential treatment. Pursuant to § 512.6, the words “ENTIRE PAGE CONFIDENTIAL BUSINESS INFORMATION” or “CONFIDENTIAL BUSINESS INFORMATION CONTAINED WITHIN BRACKETS” (as applicable) must appear at the top of each page containing information claimed to be confidential. In the latter situation, where not all information on the page is claimed to be confidential, identify each item of information for which confidentiality is requested within brackets: “[ ].”

You are also required to submit to the Office of the Chief Counsel one redacted “public version” of the information for which you are seeking confidential treatment. Pursuant to § 512.5(a)(2), the redacted “public version” should include redactions of any information for which you are seeking confidential treatment (i.e., the only information that should be unredacted is information for which you are not seeking confidential treatment).

NHTSA is currently treating electronic submission as an acceptable method for submitting confidential business information to the agency under part 512. Please do not send a hardcopy of a request for confidential treatment to NHTSA's headquarters. The request should be sent to Dan Rabinovitz in the Office of the Chief Counsel at Daniel.Rabinovitz@dot.gov. You may either submit your request via email or request a secure file transfer link. If you are submitting the request via email, please also email a courtesy copy of the request to Matthew Filpi at Matthew.Filpi@dot.gov.

Will the agency consider late comments?

In our response, we will consider all comments that Docket Management receives before the close of business on the comment closing date indicated above under DATES. To the extent possible, we will also consider comments that Docket Management receives after that date.

How will the agency utilize comments received?

The agency will consider all comments received, and will incorporate comments as it deems appropriate into the OVSC laboratory test procedure.

How can I read the comments submitted by other people?

You may read the comments received by Docket Management at the address given above under ADDRESSES. The hours of the docket are indicated above in the same location. You may also see the comments on the internet, at www.regulations.gov, identified by the docket number at the heading of this notice. Please note that, even after the comment closing date, NHTSA will continue to file relevant information in the docket as it becomes available. Further, some people may submit late comments. Accordingly, NHTSA recommends that you periodically check the docket for new material.

(Authority: 49 U.S.C. 30166: delegations of authority at 49 CFR 1.95 and 501.8)

Otto G. Matheke, III,
Director, Office of Vehicle Safety Compliance.

[FR Doc. 2024-03591 Filed 2-21-24; 8:45 am]

BILLING CODE 4910-59-P